GENERAL SERVICES ADMINISTRATION

[GSA Bulletin FTR 2003-B1]

eTravel Initiative

Correction

In the issue of Thursday, April 3, 2003, on page 16351, in the second column, in the correction of notice document 03-6662, in paragraph 5., in the fourth line, “If” should read, “It”.

[FR Doc. C3-6662 Filed 4-9-03; 8:45 am]

BILLING CODE 1505-01-D